DEPARTMENT OF HEALTH AND HUMAN SERVICES

Centers for Disease Control and Prevention

[60Day-10-10CM]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

HIV/AIDS Risk Reduction Interventions for African-American Heterosexual Men—New—National Center for HIV/AIDS, Viral Hepatitis, STD, and TB Prevention (NCHHSTP), Centers for Disease Control and Prevention (CDC).

Background and Brief Description

African Americans continue to be disproportionately affected by HIV/AIDS. Although they account for approximately 13 percent of the U.S. population, surveillance data indicate that in 2007, African Americans accounted for the majority (51 percent) of HIV/AIDS diagnoses in 34 states (CDC, 2009). When compared to other racial and ethnic groups, rates of heterosexually transmitted HIV are substantially higher among African Americans.

Presently, there is insufficient knowledge regarding African American heterosexual men's sexual risk behaviors and the context in which they occur. Increasing the number of evidence-based prevention interventions is a necessary requisite to decreasing HIV/AIDS among this target population. Thorough examinations of sexual risk behaviors and the context in which they occur is essential for developing effective HIV/AIDS prevention interventions and for informing policies and programs that will more effectively protect African American men and their partners from infection.

This research is being conducted by three sites to pilot test three unique HIV risk reduction interventions for feasibility, acceptability, and to provide preliminary evidence of intervention efficacy in reducing HIV risk behaviors. Findings from this research will also contribute knowledge on how to design culturally appropriate interventions for this target population.

The intervention evaluations are a pre-post test design (i.e., baseline assessment and 3-month follow-up assessment) with three convenience samples of African American heterosexual men, ages 18 to 45, living in New York and North Carolina.

Three sites will participate in this project. Each site will use a screener form to determine participant eligibility for inclusion in the study. Additionally, each site will use a locator form to collect contact information from participants so that staff can follow up to schedule future appointments. A baseline and three-month follow-up assessment will also be administered to participants enrolled at each site. The baseline and follow-up assessments will contain questions about the participants' socio-demographic background, sexual health, substance use, history of incarceration, HIV testing history, self-efficacy, perceptions of sex roles, HIV communication, access to healthcare, and intervention acceptability and feasibility. The pilot intervention evaluation will be conducted with 50 to 80 African American heterosexual men at each site. There is no cost to respondents other than their time.

Estimate of Annualized Burden Table
Types of data collection | Number of respondents | Number of responses per respondent | Average burden per response (in hours) | Total burden (in hours)
Screener—Site A | 200 | 1 | 10/60 | 33
Locator—Site A | 80 | 1 | 5/60 | 7
Baseline Assessment—Site A | 80 | 1 | 20/60 | 27
Follow-up Assessment—Site A | 80 | 1 | 20/60 | 27
Screener—Site B | 214 | 1 | 10/60 | 36
Locator—Site B | 80 | 1 | 5/60 | 7
Baseline Assessment—Site B | 80 | 1 | 45/60 | 60
Follow-up Assessment—Site B | 80 | 1 | 45/60 | 60
Screener—Site C | 200 | 1 | 5/60 | 17
Locator—Site C | 80 | 1 | 5/60 | 7
Baseline Assessment—Site C | 80 | 1 | 20/60 | 27
Follow-up Assessment—Site C | 80 | 1 | 20/60 | 27
Total |  |  |  | 335

Dated: April 14, 2010.
Maryam I. Daneshvar,
Acting Reports Clearance Officer, Centers for Disease Control and Prevention.

[FR Doc. 2010-9087 Filed 4-19-10; 8:45 am]

BILLING CODE 4163-18-P